NATIONAL AERONAUTICS AND SPACE ADMINISTRATION

[Notice (00-042)]

NASA Advisory Council (NAC), Task Force on International Space Station Operational Readiness; Meeting

AGENCY: National Aeronautics and Space Administration.

ACTION: Notice of meeting.

SUMMARY: In accordance with the Federal Advisory Committee Act, Pub. L. 92-463, as amended, the National Aeronautics and Space Administration announces an open meeting of the NAC Task Force on International Space Station Operational Readiness (IOR).

DATES: Thursday, May 11, 2000, 1 p.m.—2 p.m. Eastern Daylight Time.

ADDRESSES: NASA Headquarters, 300 E Street, SW, Room 7W31, Washington, DC 20546.

FOR FURTHER INFORMATION CONTACT: Mr. Philip Cleary, Code IH, National Aeronautics and Space Administration, Washington, DC 20546-0001, 202/358-4461.

SUPPLEMENTARY INFORMATION: This meeting will be open to the public up to the seating capacity of the room. The agenda for the meeting is as follows:

—Review the status of the fact-finding meetings conducted by the IOR Task Force and the Russian Aviation and Space Agency (Utkin) Advisory Expert Council held April 24-28, 2000, at the Kennedy Space Center, Florida and the Johnson Space Center, Texas. The agenda will include the areas of Proton Launch Vehicle Update; Service Module Status, and; Mission Control Center—Moscow and Ground Readiness. Additional subjects will be ISS Air Quality; ISS Acoustics; ISS Treadmill with Vibration Isolation System (TVIS 2), and; Crew Training Status.

It is imperative that the meeting be held on this date to accommodate the scheduling priorities of the key participants. Visitors will be requested to sign a visitors register.

Dated: April 24, 2000.
Mathew M. Crouch,
Advisory Committee Management Officer, National Aeronautics and Space Administration.

[FR Doc. 00-10715 Filed 4-28-00; 8:45 am]

BILLING CODE 7510-01-P